FEDERAL COMMUNICATIONS COMMISSION

47 CFR Part 73

[DA 00-2374; MM Docket No. 00-149; RM-9940]

Radio Broadcasting Services; Smiley, TX

AGENCY: Federal Communications Commission.

ACTION: Proposed rule; dismissal.

SUMMARY: Smiley Community Radio Company filed a petition for rule making proposing the allotment of Channel 280A at Smiley, Texas, as the community's first local aural transmission service. See 65 FR 53689, September 5, 2000. On October 10, 2000, petitioner filed a request for withdrawal. A showing of continuing interest is required before a channel will be allotted. It is the Commission's policy to refrain from making an allotment to a community absent an expression of interest. No other comments were filed. Therefore, at the request of petitioner, we will dismiss the instant proposal.

FOR FURTHER INFORMATION CONTACT: Sharon P. McDonald, Mass Media Bureau, (202) 418-2180.

SUPPLEMENTARY INFORMATION: This is a synopsis of the Commission's Report and Order, MM Docket No. 00-149, adopted October 11, 2000, and released October 20, 2000. The full text of this Commission decision is available for inspection and copying during normal business hours in the FCC Reference Information Center (Room CY-A257), 445 12th Street, SW., Washington, DC. The complete text of this decision may also be purchased from the Commission's copy contractors, International Transcription Service, Inc., (202) 857-3800, 1231 20th Street, NW., Washington, DC 20036.

Federal Communications Commission.
John A. Karousos,
Chief, Allocations Branch, Policy and Rules Division, Mass Media Bureau.

[FR Doc. 00-28883 Filed 11-9-00; 8:45 am]

BILLING CODE 6712-01-P